FEDERAL ELECTION COMMISSION

[Notice 2023—18]

Filing Dates for the New York Special Election in the 3rd Congressional District

AGENCY: Federal Election Commission.

ACTION: Notice of filing dates for special election.

SUMMARY: New York has scheduled a special election on February 13, 2024, to fill the U.S. House of Representatives seat in the 3rd Congressional District that became vacant when Representative George Santos was expelled from Congress.

Committees required to file reports in connection with the Special General Election on February 13, 2024, shall file a 12-day Pre-General and a 30-Day Post-General Report.

FOR FURTHER INFORMATION CONTACT: Ms. Elizabeth S. Kurland, Information Division, 1050 First Street NE, Washington, DC 20463; Telephone: (202) 694-1100; Toll Free (800) 424-9530.

SUPPLEMENTARY INFORMATION:

Principal Campaign Committees

All principal campaign committees of candidates who participate in the New York Special General Election shall file a 12-day Pre-General Report on February 1, 2024, and a 30-day Post-General Report on March 14, 2024. (See chart below for the closing date for each report.)

Note that these reports are in addition to the campaign committee's regular quarterly filings. (See chart below for the closing date for each report).

Unauthorized Committees (PACs and Party Committees)

Political committees not filing monthly are subject to special election reporting if they make previously undisclosed contributions or expenditures in connection with the New York Special General Election by the close of books for the applicable report(s). (See chart below for the closing date for each report.)

Since disclosing financial activity from two different calendar years on one report would conflict with the calendar year aggregation requirements stated in the Commission's disclosure rules, unauthorized committees that trigger the filing of the Pre-General Report will be required to file this report on two separate forms: One form to cover 2023 activity, labeled as the Year-End Report; and the other form to cover only 2024 activity, labeled as the Pre-General Report. Both forms must be filed by February 1, 2024.

Committees filing monthly that make contributions or expenditures in connection with the New York Special General Election will continue to file according to the monthly reporting schedule.

Additional disclosure information for the New York special election may be found on the FEC website at https://www.fec.gov/help-candidates-and-committees/dates-and-deadlines/.

Disclosure of Lobbyist Bundling Activity

Principal campaign committees, party committees and leadership PACs that are otherwise required to file reports in connection with the special election must simultaneously file FEC Form 3L if they receive two or more bundled contributions from lobbyists/registrants or lobbyist/registrant PACs that aggregate in excess of the lobbyist bundling threshold during the special election reporting periods. (See chart below for closing date of each period.) 11 CFR 104.22(a)(5)(v), (b), 110.17(e)(2), (f).

The lobbyist bundling disclosure threshold for calendar year 2023 is $21,800. This threshold amount may change in 2024 based upon the annual cost of living adjustment (COLA). As soon as the adjusted threshold amount is available, the Commission will publish it in the Federal Register and post it on its website. 11 CFR 104.22(g) and 110.17(e)(2).

Calendar of Reporting Dates for New York Special Election
Report | Close of books¹ | Reg./cert. & overnight mailing deadline | Filing deadline
Political Committees Involved in the Special General (02/13/2024) Must File
Year-End | —WAIVED—
Pre-General | 01/24/2024 | 01/29/2024 | 02/01/2024
Post-General | 03/04/2024 | 03/14/2024 | 03/14/2024
April Quarterly | 03/31/2024 | 04/15/2024 | 04/15/2024
¹ The reporting period always begins the day after the closing date of the last report filed. If the committee is new and has not previously filed a report, the first report must cover all activity that occurred before the committee registered as a political committee up through the close of books for the first report due.

Dated: December 12, 2023.
On behalf of the Commission,
Dara S. Lindenbaum,
Chair, Federal Election Commission.

[FR Doc. 2023-27582 Filed 12-14-23; 8:45 am]

BILLING CODE 6715-01-P